FEDERAL MARITIME COMMISSION

Ocean Transportation Intermediary License Revocations and Surrenders

The Commission gives notice that the following Ocean Transportation Intermediary licenses have been revoked or terminated for the reason indicated pursuant to section 19 of the Shipping Act of 1984 (46 U.S.C. 40101) effective on the date shown.

License No.: 014257F.

Name: Trans-Union Group New York Co., Ltd.

Address: One Cross Island Plaza, Suite 229-C, Rosedale, NY 11422.

Date Revoked: September 3, 2014.

Reason: Failed to maintain a valid bond.

License No.: 17509N.

Name: Global Alliance Logistics (L.A.) Inc.

Address: 9133 S La Cienega Blvd., Suite 270, Inglewood, CA 90301.

Date Revoked: September 12, 2014.

Reason: Failed to maintain a valid bond.

License No.: 17688F.

Name: International Services Corporation.

Address: 1629 K Street NW., Suite 700, Washington, DC 20006.

Date Surrendered: August 31, 2014.

Reason: Voluntary surrender of license.

License No.: 022502NF.

Name: Conquests International Freight LLC.

Address: 4454 NW 74th Avenue, Miami, FL 33166.

Date Surrendered: September 3, 2014.

Reason: Voluntary surrender of license.

License No.: 022985F.

Name: Ruky International Shipping Line LLC.

Address: 100 Menlo Park Drive, Suite 204, Edison, NJ 08837.

Date Revoked: September 12, 2014.

Reason: Failed to maintain a valid bond.

Pursuant to the Commission's direct final rule (79 FR 56522), beginning October 20, 2014, these notices will no longer be posted in the Federal Register. After October 20, 2014, this information will be available on the Commission's Web site at http:/www.fmc.gov. See OTI Licensing Updates.

Sandra L. Kusumoto,
Director, Bureau of Certification and Licensing.

[FR Doc. 2014-23646 Filed 10-3-14; 8:45 am]

BILLING CODE 6730-01-P